DEPARTMENT OF TRANSPORTATION

Federal Aviation Administration

14 CFR Part 39

[Docket No. FAA-2007-0219; Directorate Identifier 2007-NE-46-AD; Amendment 39-15806; AD 2009-03-05]

RIN 2120-AA64

Airworthiness Directives; Pratt & Whitney Canada (PWC) PW206A, PW206B, PW206B2, PW206C, PW206E, PW207C, PW207D, and PW207E Turboshaft Engines; Correction

AGENCY: Federal Aviation Administration (FAA), DOT.

ACTION: Final rule; correction.

SUMMARY: The FAA is correcting airworthiness directive (AD) 2009-03-05. That AD applies to PWC PW206 and PW207 series turboshaft engines. We published that AD in the Federal Register on February 20, 2009 (74 FR 7794). Paragraph (d) in the regulatory text is incorrect. This document corrects that paragraph. In all other respects, the original document remains the same.

DATES: Effective Date: Effective July 27, 2009.

FOR FURTHER INFORMATION CONTACT: Ian Dargin, Aerospace Engineer, Engine Certification Office, FAA, Engine and Propeller Directorate, 12 New England Executive Park; Burlington, MA 01803; e-mail: ian.dargin@faa.gov; telephone (781) 238-7178; fax (781) 238-7199.

SUPPLEMENTARY INFORMATION: On February 20, 2009 (74 FR 7794), we published a final rule AD, FR Doc E9-3046, in the Federal Register. That AD applies to PWC PW206A, PW206B, PW206B2, PW206C, PW206E, PW207C, PW207D, and PW207E turboshaft engines. We need to make the following correction:

§ 39.13 [Corrected]

On page 7795, in the third column, in the regulatory text, in the 10th paragraph, in the fourth line, delete “Bell 429,”.

Issued in Burlington, Massachusetts, on July 20, 2009.
Peter A. White,
Assistant Manager, Engine and Propeller Directorate, Aircraft Certification Service.

[FR Doc. E9-17599 Filed 7-24-09; 8:45 am]

BILLING CODE 4910-13-P